POSTAL REGULATORY COMMISSION

[Docket No. CP2009-27; Order No. 202]

Postal Product Price Changes

AGENCY: Postal Regulatory Commission.

ACTION: Notice.

SUMMARY: This document announces the Postal Service's filing of a notice of price changes for several competitive products and invites public comment. The price changes are for products identified in a Postal Service notice of errata to changes in rates of general applicability.

DATES: Postal Service responses are due April 20, 2009. Comments are due May 1, 2009.

ADDRESSES: Submit comments electronically via the Commission's Filing Online system at http://www.prc.gov.

FOR FURTHER INFORMATION CONTACT: Stephen L. Sharfman, General Counsel, 202-789-6820 and stephen.sharfman@prc.gov.

SUPPLEMENTARY INFORMATION: On February 10, 2009, the Postal Service filed a notice with the Commission concerning changes in rates of general applicability for competitive products.¹ The Commission issued its final decision on these matters approving the changes on March 12, 2009.² These price changes are scheduled to become effective May 11, 2009.

¹ See Docket No. CP2009-23, Notice of the United States Postal Service of Changes in Rates of General Applicability for Competitive Products Established in Governors' Decision No. 09-01, February 10, 2009 (Filing). The Filing is available on the Commission's Web site, http://www.prc.gov, under Daily Listings for February 10, 2009. Pursuant to 39 U.S.C. 3632(b)(2), the “Governors shall cause each rate and class decision under this section and the record of the Governors' proceedings in connection with such decision to be published in the Federal Register at least 30 days before the effective date of any new rates or classes.” Similarly, 39 CFR 3015.2(a) requires that “[w]hen the Postal Service determines to change a rate or rates of general applicability, it shall file notice of the change with the Commission no later than the date of publication of the decision in the Federal Register concerning such change, but at least 30 days before the effective date of the change.”

² PRC Order No. 190, Review of Notice Concerning Changes in Rates of General Applicability for Competitive Products, March 12, 2009.

Postal Service filing. On April 9, 2009, the Postal Service filed a Notice of Errata to United States Postal Service Notice of Changes in Rates of General Applicability for Competitive Products Established in Governors' Decision No. 09-01 (Notice).³ The Notice explains that the price charts in the Mail Classification Schedule language included as Attachment B to the Governors' Decision omitted charges for Pickup on Demand service for certain competitive products. The Postal Service states that the price change from $14.75 to $15.30 for Pickup on Demand for Express Mail, Priority Mail, and certain international competitive products was inadvertently omitted in the materials included in the Filing, although the same price change was made for certain market dominant services that offer Pickup on Demand service in Docket No. R2009-2.

³ The Notice is available on the Commission's Web site, http://www.prc.gov, under Daily Listings for April 9, 2009.

The Postal Service notes that it has sent a notice of correction for publication in the Federal Register, and has advised the Governors of this matter and provided them with information concerning the Pickup on Demand price change. For the affected domestic products, the Postal Service believes that customers should already be on notice of the price change because the new price already appeared in the price charts published with Domestic Mail Manual changes in the Federal Register. 74 FR 8009 (February 23, 2009).

Attached to the Notice is Mail Classification Schedule language setting forth the price changes to be incorporated into the draft Mail Classification Schedule.

Notice of filing. The establishment of rates of general applicability for competitive products and the associated mail classification changes effects a change in the Mail Classification Schedule. The Commission establishes Docket No. CP2009-27 to consider this issue. Interested persons may express views and offer comments on whether the planned changes are consistent with the policies of 39 U.S.C. 3632, 3633, or 3642 and 39 CFR part 3015 and 39 CFR part 3020. Comments are due no later than May 1, 2009.

Pursuant to 39 U.S.C. 505, Kenneth E. Richardson is appointed to serve as officer of the Commission (Public Representative) to represent the interests of the general public in the above-captioned docket.

Supplemental information. Pursuant to 39 CFR 3015.6, the Commission requests the Postal Service to provide the following supplemental information by April 20, 2009: Due to the planned price increase of Pickup on Demand service, please provide:

a. The overall (average) price increase for Express Mail, Priority Mail, Outbound International Expedited Services, and Outbound Priority Mail International; and

b. The weights used to derive the Before Rates and After Rates indices relied upon to calculate the overall (average) percentage price increase for each product and service referenced above, similar to those filed in response to Docket No. CP2009-8, Chairman's Information Request No. 2, question 2. Please show all calculations.

It is Ordered:

1. The Commission establishes Docket No. CP2009-27 to provide interested persons an opportunity to express views and offer comments on whether the planned changes are consistent with the policies of 39 U.S.C. 3632, 3633, or 3642 and 39 CFR part 3015 and 39 CFR part 3020.

2. Comments on the Notice are due no later than May 1, 2009.

3. The Commission appoints Kenneth E. Richardson as Public Representative to represent the interests of the general public in this proceeding.

4. Responses to the request for supplemental information discussed in the body of this order are due no later than April 20, 2009.

5. The Secretary shall arrange for publication of this order in the Federal Register.

By the Commission.
Steven W. Williams,
Secretary.

[FR Doc. E9-8944 Filed 4-17-09; 8:45 am]

BILLING CODE P